DEPARTMENT OF COMMERCE

Foreign-Trade Zones Board

[B-15-2024]

Foreign-Trade Zone (FTZ) 224; Notification of Proposed Production Activity; Jubilant HollisterStier, LLC; (Pharmaceuticals) Spokane, Washington

Jubilant HollisterStier, LLC, submitted a notification of proposed production activity to the FTZ Board (the Board) for its facility in Spokane, Washington within FTZ 224. The notification conforming to the requirements of the Board's regulations (15 CFR 400.22) was received on April 9, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished product is cetuximab finished drug product (duty free).

The proposed foreign-status materials/components include cetuximab monoclonal antibody active pharmaceutical ingredient (API) in mixed and unmixed forms (duty free).

Public comment is invited from interested parties. Submissions shall be addressed to the Board's Executive Secretary and sent to: ftz@trade.gov. The closing period for their receipt is May 28, 2024.

A copy of the notification will be available for public inspection in the “Online FTZ Information System” section of the Board's website.

For further information, contact Diane Finver at Diane.Finver@trade.gov.

Dated: April 10, 2024.
Elizabeth Whiteman,
Executive Secretary.

[FR Doc. 2024-07905 Filed 4-12-24; 8:45 am]

BILLING CODE 3510-DS-P